DEPARTMENT OF THE INTERIOR

Bureau of Ocean Energy Management

[Docket No. BOEM-2023-0038]

Notice of Availability of the Revolution Wind Farm and Revolution Wind Export Cable Project Final Environmental Impact Statement

AGENCY: Bureau of Ocean Energy Management, Interior.

ACTION: Notice of availability; final environmental impact statement.

SUMMARY: The Bureau of Ocean Energy Management (BOEM) announces the availability of the final environmental impact statement (FEIS) for the construction and operations plan (COP) submitted by Revolution Wind, LLC (Revolution Wind) for its proposed Revolution Wind Farm and Revolution Wind Export Cable Project (Project) offshore Rhode Island. The FEIS analyzes the potential environmental impacts of the Project as described in the COP (the proposed action) and the alternatives to the proposed action. The FEIS will inform BOEM's decision whether to approve, approve with modifications, or disapprove the COP.

ADDRESSES: The FEIS and detailed information about the Project, including the COP, can be found on BOEM's website at: https://www.boem.gov/renewable-energy/state-activities/revolution-wind.

FOR FURTHER INFORMATION CONTACT: Jessica Stromberg, BOEM Office of Renewable Energy Programs, 45600 Woodland Road, VAM-OREP, Sterling, Virginia 20166, (703) 787-1730 or jessica.stromberg@boem.gov.

SUPPLEMENTARY INFORMATION:

Proposed Action: Revolution Wind seeks approval to construct, operate, and maintain the Project on the Outer Continental Shelf (OCS) offshore Rhode Island. The Project would be developed within the range of design parameters outlined in the Revolution Wind COP, subject to applicable mitigation measures. The Project, as proposed in the COP, would have a maximum capacity ranging between 704 and 880 megawatts, would include up to 100 wind turbine generators connected by a network of inter-array cables, up to 2 offshore substations, an offshore cable linking the two substations, up to 2 export cables making landfall in North Kingstown, Rhode Island, 1 onshore substation, and 1 interconnection facility that would connect to the regional onshore transmission grid at The Narragansett Electric Company Davisville Substation. The Project would be located on the OCS approximately 15 nautical miles (18 statute miles) southeast of Point Judith, Rhode Island, within an area defined by Renewable Energy Lease OCS-A 0486. The offshore export cables would be buried below the seabed in the OCS and State of Rhode Island- owned submerged lands. The cable landfall, onshore substation, and interconnection facility would be located in North Kingstown, Rhode Island.

Alternatives: BOEM considered 18 alternatives when preparing the draft environmental impact statement (DEIS), then included 3 additional alternatives based on public comments received on the DEIS and carried forward 7 alternatives for further analysis in the FEIS. These seven alternatives include six action alternatives and the no action alternative. Fourteen alternatives were not carried forward because they did not meet the purpose and need for the proposed action or did not meet screening criteria, which are presented in FEIS chapter 2 and appendix K. The screening criteria included consistency with law and regulations; technical and economic feasibility; environmental impacts; and geographic considerations.

Availability of the FEIS: The FEIS, Revolution Wind COP, and associated information are available on BOEM's website at: https://www.boem.gov/renewable-energy/state-activities/revolution-wind. BOEM has distributed digital copies of the FEIS to all parties listed in FEIS appendix H. If you require a digital copy on a flash drive or a paper copy, BOEM will provide one upon request, as long as these materials are available. You may request a flash drive or paper copy of the FEIS by contacting Laura Lee Wolfson at (703) 787-1433 or Lauralee.wolfson@boem.gov.

Cooperating Agencies: The following Federal agencies and State governmental entities participated as cooperating agencies in the preparation of the FEIS: Bureau of Safety and Environmental Enforcement; Environmental Protection Agency; National Marine Fisheries Service; U.S. Army Corps of Engineers; U.S. Coast Guard; Massachusetts Office of Coastal Zone Management; Rhode Island Coastal Resources Management Council; and the Rhode Island Department of Environmental Management. The Advisory Council on Historic Preservation; National Park Service; Federal Aviation Administration; Department of Defense; U.S. Fish and Wildlife Service; and Department of the Navy participated as a participating agency.

Authority: 42 U.S.C. 4231 et seq. (NEPA, as amended) and 40 CFR 1506.6.

Karen Baker,
Chief, Office of Renewable Energy Programs, Bureau of Ocean Energy Management.

[FR Doc. 2023-15387 Filed 7-20-23; 8:45 am]

BILLING CODE 4340-98-P